DEPARTMENT OF HOMELAND SECURITY

Coast Guard

33 CFR Part 117

[Docket No. USCG-2017-0060]

Drawbridge Operation Regulation; Banana River, Indian Harbour Beach, FL

AGENCY: Coast Guard, DHS.

ACTION: Notice of temporary deviation from regulations; request for comments.

SUMMARY: The Coast Guard has issued a temporary deviation from the operating schedule that governs the Mathers Bridge across the Banana River, mile 0.5, at Indian Harbour Beach, FL. This deviation will test a change to the drawbridge operation schedule to determine whether a permanent change to the schedule is needed. This deviation will allow the bridge to open for vessels at specific times.

DATES: This deviation is effective without actual notice from February 20, 2018 through 6 a.m. on August 4, 2018. For the purposes of enforcement, actual notice will be used from 6 a.m. on February 5, 2018 until February 20, 2018. Comments and relate material must reach the Coast Guard on or before August 4, 2018.

ADDRESSES: You may submit comments identified by docket number USCG- 2017-0060 using Federal eRulemaking Portal at http://www.regulations.gov.

See the “Public Participation and Request for Comments” portion of the SUPPLEMENTARY INFORMATION section below for instructions on submitting comments.

FOR FURTHER INFORMATION CONTACT: If you have questions on this test deviation, call or email LT Allan Storm, Sector Jacksonville, Waterways Management Division, U.S. Coast Guard; telephone 904-714-7616, email Allan.H.Storm@uscg.mil.

SUPPLEMENTARY INFORMATION:

I. Background, Purpose and Legal Basis

Mathers Bridge across the Banana River, mile 0.5, at Indian Harbour Beach, FL is a swing bridge. It has a vertical clearance of 7 feet at mean high water in the closed position and a horizontal clearance of 74 feet and 81 feet. Presently, the bridge operates in accordance with 33 CFR 117.263.

On January 12, 2017, the Brevard County Public Works Department, the bridge owner, requested the Coast Guard consider allowing the bridge to not open for vessels except every 30 minutes on the hour and half hour. The county requested this action in order to reduce traffic delays caused by the numerous openings of the bridge.

On April 24, 2017, we published a notice of proposed rulemaking (NPRM) entitled Drawbridge Operation Regulation; Banana River, Indian Harbour Beach, FL in the Federal Register (82 FR 18877) and received minimul comments. The City of Indian Harbour Beach, FL requested to have the comment period re-opened as they believed their constituency did not have awareness of the initial notice and comment period. On October 23, 2017, we published a notice of proposed rulemaking; reopening comment period entitled Drawbridge Operation Regulation; Banana River, Indian Harbour Beach, FL in the Federal Register (82 FR 48939).

Due to the numerous comments received both for and against the proposed rule, the Coast Guard is publishing this temporary deviation to test the proposed schedule change to determine whether a permanent change is appropriate to better balance the needs of maritime and vehicle traffic.

Under this test deviation, in effect from 6 a.m. on February 5, 2018 to 6 a.m. on August 4, 2018, the bridge shall open for vessels requesting passage on the hour and half hour, from 6 a.m. to 10 p.m., Sunday through Thursday. On Friday, Saturday and all Federal holidays, 24 hours a day, the bridge shall open for vessels on the hour and half hour. At all other times, the bridge shall open on signal if at least two hours notice is given. Vessels able to pass through the bridge in the closed position may do so at anytime. The bridge will be able to open for emergencies and there is no immediate alternate route for vessels to pass through the bridge in closed position.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, visit http://www.regulations.gov/privacynotice.

Documents mentioned in this notice as being available in this docket and all public comments, will be in our online docket at http://www.regulations.gov and can be viewed by following that website's instructions. Additionally, if you go to the online docket and sign up for email alerts, you will be notified when comments are posted or a final rule is published.

Dated: February 6, 2018.
Barry L. Dragon,
Director, Bridge Branch, Seventh Coast Guard District.

[FR Doc. 2018-03347 Filed 2-16-18; 8:45 am]

BILLING CODE 9110-04-P